DEPARTMENT OF TRANSPORTATION

Federal Highway Administration

Environmental Impact Statement: Shasta and Trinity Counties, CA

AGENCY: Federal Highway Administration (FHWA), DOT.

ACTION: Notice of intent.

SUMMARY: The Federal Highway Administration (FHWA) is issuing this notice to advise the public that an Environmental Impact Statement (EIS) will be prepared for a proposed State Route 299 (SR 299) project in Shasta and Trinity Counties, California.

FOR FURTHER INFORMATION CONTACT: Harry Khani, Transportation Engineer, Federal Highway Administration, 980 Ninth Street, Suite 400, Sacramento, California 95814, telephone: (916) 498-5056, e-mail: Harry.Khani@fhwa.dot.gov. Chris Cummings, California Department of Transportation Project Manager, 1657 Riverside Drive, Redding, CA 96049, telephone: (530) 225-3495, e-mail: chris_cummings@dot.ca.gov.

SUPPLEMENTARY INFORMATION: The FHWA, in cooperation with the California Department of Transportation (Caltrans), will prepare an EIS for a proposed highway improvement project of SR 299 in Shasta and Trinity Counties, California.

SR 299 is the principal arterial between Interstate 5 and Highway 101 and is designated as a high emphasis route in the Interregional Roadway System. SR 299 is of economic importance to the region as it provides access to a vast recreational area and links the upper Sacramento Valley with the deepwater port in Eureka. The project portion of the highway, the Buckhorn Grade, represents the only obstacle preventing interstate trucks and oversize permit loads from utilizing this direct access to the coast.

The proposed project limits extends approximately 7.5 miles from the boundary of the Whiskeytown-Shasta-Trinity National Recreation Area to west of the Shasta-Trinity County line. The existing SR 299 corridor within these limits consists of a two-lane highway with limited passing lanes at various locations. The road closely follows the extremely rugged terrain forming a steep, twisted alignment with a design speed of 25 mph.

The proposed project would construct a new two-lane alignment, with truck climbing lanes, standard shoulders, 50 mph design speed, and maximum 7% grade. Possible alignment variations include bridges, viaducts, and a possible tunnel at the Buckhorn Summit. The replaced SR 299 alignment would be relinquished or reclaimed (all or part).

Caltrans has been investigating Buckhorn Grade realignment designs for over 40 years. Since the early 1990's four Project Study Reports have been completed. Since 2000, Caltrans has conducted over 11 meetings with the public, with local governmental officials, and with jurisdictional agencies.

Letters describing the proposed action and soliciting comments will be sent to appropriate Federal, State, and local agencies, and to private organizations and citizens who have previously expressed or are known to have interest in this proposal. In addition, a public workshop will be held, with public notice given of the time and location. The draft EIS will be available for public and agency review and comment prior to the public workshop.

To ensure that the full range of issues related to this proposed action are addressed and all significant issues identified, comments and suggestions are invited from all interested parties. Comments or questions concerning this proposed action and the EIS should be directed to the FHWA at the address provided.

(Catalog of Federal Domestic Assistance Program Number 20.205, Highway Research, Planning, and Construction. The regulations implementing Executive Order 12372 regarding intergovernmental consultation on Federal programs and activities apply to this program.)

Issued on: June 13, 2002.
Jeffery Kolb,
Chief District Operation South-California Division, Federal Highway Administration.

[FR Doc. 02-16411 Filed 6-27-02; 8:45 am]

BILLING CODE 4910-22-M